DEPARTMENT OF TRANSPORTATION

Coast Guard

[USCG-2000-7642]

Lifesaving Equipment

AGENCY: Coast Guard, DOT.

ACTION: Notice of meetings.

SUMMARY: The Coast Guard is hosting four workshops on the implementation of new lifesaving system rules for large passenger vessels operating in domestic waters. The meetings will be informal workshops open to the public and will be held in cities near high concentrations of passenger vessels affected by the new rules. The new rules apply to large passenger vessels in lakes, bays, and sounds and to rivers service; and require them to carry lifesaving equipment for all persons on board, or to develop a safety assessment in lieu of retrofitting lifesaving equipment. The workshops will help passenger vessel operators and Coast Guard inspection offices create a consistent process for the development and approval of the safety assessment alternative. This notice announces the dates, time, and locations of the four workshops.

DATES: The workshops will be held from 9 a.m. to 5 p.m., with registration at 8:30 a.m., on the following dates, but will close early if all business is finished.

St. Louis, MO, August 29, 2000

Seattle, WA, September 8, 2000

Staten Island, NY, September 26, 2000

New Orleans, LA, December 6, 2000

ADDRESSES: The workshops will be held at the following locations:

St. Louis, MO—Room 2-308, Robert A. Young Federal Building, 1222 Spruce Street, St. Louis, MO 63103.

Seattle, WA—Bear Conference Room, Building 5, 1519 Alaskan Way S., Seattle, WA 98103.

Staten Island, NY—Fr. Capodanno Memorial Chapel, Activities New York, 203 New York Avenue, Fort Wadsworth, Staten Island, NY 10305-5005.

New Orleans, LA—Basement Conference Room, Hale Boggs Federal Building, 500 Camp Street, New Orleans, LA 70130-3396.

FOR FURTHER INFORMATION CONTACT: LCDR Kevin Kiefer, Lifesaving and Fire Safety Division (G-MSE-4), U.S. Coast Guard Headquarters, telephone 202-267-1444, fax 202-267-4816, or email KKiefer@comdt.uscg.mil.

SUPPLEMENTARY INFORMATION:

Background

The Lifesaving Equipment Final Rule [CGD 84-069], including changes to 46 CFR part 199, Lifesaving Systems For Certain Inspected Vessels, in subchapter W, Lifesaving Appliances and Arrangements, was published on October 1, 1998 (63 FR 52802), with an effective date of November 2, 1998.

Subchapter W requires existing passenger vessels certificated under 46 CFR subchapter H in lakes, bays, and sounds service or in rivers service, to carry additional survival craft with a compliance date of October 1, 2003. As an alternative to the survival craft requirements listed in subchapter W, in 46 CFR 199.201(b), vessel operators may have a safety assessment approved by their local Officer in Charge, Marine Inspection (OCMI). New passenger vessels or recently built vessels may also consider the safety assessment alternative to possibly reduce the number of required survival craft.

The safety assessment must include:

(1) the navigation and vessel safety conditions within the vessel's planned operating area; and

(2) a comprehensive shipboard safety management and contingency plan, including an evacuation plan that is tailored to the particular vessel, is easy to use, is understood by vessel management personnel both on board and ashore, and is updated regularly.

Paragraph (f) of 46 CFR 199.630 contains additional information about the contents of the safety assessment.

The Coast Guard recognizes that this performance-based regulation, designed to allow for flexibility, will inevitably involve some inconsistencies and differences of opinion. The implementation workshops will provide opportunities for the Coast Guard and vessel operators to work together to minimize these problems. The workshop participants will create a consistent process for the development and approval of safety assessments, which include Shipboard Safety Management and Contingency Plans. The workshops will consider risk management principles such as the types of contingencies that need to be planned for, the probabilities of various types of emergencies, given the characteristics of the waterway, and to what degree ship characteristics and alternative equipment can substitute for lifesaving equipment.

The product of the workshops, which will be distributed to vessel operators and OCMIs after the completion of all four workshops, is the development of the criteria that will be used by the OCMI in the safety assessment approval process.

Format of Subchapter W Implementation Workshops

The subchapter W implementation workshops are open to the public and will consist of briefings and facilitated breakout sessions.

The morning sessions of the one-day workshops will provide background information and outline the Coast Guard view on the safety assessment approval process.

The afternoon sessions will be facilitated to tailor the safety assessment approval process and to develop criteria that will be used by the OCMI in the approval process. Members of the public attending the meetings are welcome to participate in all sessions. The workshops will begin at 9 a.m. with registration at 8:30 a.m.

Information on Services for Individuals With Disabilities

For information on facilities or services for individuals with disabilities or to request special assistance at the meeting, contact LCDR Kevin Kiefer, Lifesaving and Fire Safety Division (G-MSE-4), U.S. Coast Guard Headquarters, telephone 202-267-1444, fax 202-267-4816, or email KKiefer@comdt.uscg.mil, as soon as possible.

Dated: July 14, 2000.
Joseph J. Angelo,
Director of Standards, Marine Safety and Environmental Standards.

[FR Doc. 00-18554 Filed 7-20-00; 8:45 am]

BILLING CODE 4910-15-P